DEPARTMENT OF TRANSPORTATION

Federal Transit Administration

Best Practices Procurement Manual; Conflicts of Interest Guidance

AGENCY: Federal Transit Administration (FTA), DOT.

ACTION: Notice and request for comments on proposed updates to FTA's Best Practices Procurement Manual; Conflicts of Interest.

SUMMARY: The Federal Transit Administration (FTA) is developing additional guidance on identifying and addressing real and apparent conflicts of interest on contracts involving federal financial assistance. FTA is seeking input from interested parties on this issue, including examples of problems and best practices for avoiding and/or dealing with conflicts of interest. Upon consideration of the comments, FTA will issue additional guidance on conflicts of interest for inclusion in the FTA Best Practices Procurement Manual.

DATES: Comments must be received on or before February 28, 2001.

ADDRESSES: The draft guidance material is available for public review on the Internet at http://www.fta.dot.gov/library/procurement/conflicts.html. Written comments may be addressed to Lucy T. Jackson, Director, Office of Procurement, Federal Transit Administration, TAD-40, Room 9101, 400 Seventh Street, SW., Washington, DC 20590, and shall reference this notice. Alternatively, you may send comments electronically to [conflictsofinterest@fta.dot.gov].

FOR FURTHER INFORMATION CONTACT: Lucy T. Jackson, Office of Procurement, (202) 366-4980, or Donald R. Durkee, Office of Chief Counsel, (202) 366-1936.

SUPPLEMENTARY INFORMATION: Responding to requests from transit industry representatives, FTA is in the process of developing further guidance on handling conflicts of interest on contracts involving federal financial assistance. Currently, FTA's Best Practices Procurement Manual contains only a brief discussion on conflicts of interest issues. Given the importance of this issue, FTA intends to promulgate additional guidance. The additional coverage will include further discussion of the requirements as established in the FTA Circular 4220.1D, the FTA Master Agreement, and the Code of Federal Regulations, 49 CFR parts 18 and 19; definition of terms; examples and scenarios of various types of conflicts and remedies or solutions to conflicts. This guidance, based on input received from interested parties, will then be incorporated into FTA's Best Practices Procurement Manual. To assist in this endeavor, FTA has established a web page containing the draft guidance along with preliminary definitions and examples that FTA believes might be included in the Best Practices Procurement Manual.

Issued on: December 29, 2000.
Nuria I. Fernandez,
Acting Administrator, Federal Transit Administrator.

[FR Doc. 01-269 Filed 1-4-01; 8:45 am]

BILLING CODE 4910-01-M